DEPARTMENT OF COMMERCE

National Oceanic and Atmospheric Administration

[RTID 0648-XR104]

Marine Mammals; File No. 22382

AGENCY: National Marine Fisheries Service (NMFS), National Oceanic and Atmospheric Administration (NOAA), Commerce.

ACTION: Notice; receipt of application.

SUMMARY: Notice is hereby given that SeaWorld, LLC. (Responsible Party: Christopher Dold, DVM), 9205 Southpark Center Loop, Suite 400, Orlando, Florida, 32819, has applied in due form for a permit to import one stranded, non-releasable adult female Pacific white-sided dolphin (Lagenorhynchus obliquidens) for public display.

DATES: Written, telefaxed, or email comments must be received on or before April 13, 2020.

ADDRESSES: The permit application is available for review online at https://www.fisheries.noaa.gov/action/seaworld-permit-application-import-pacific-white-sided-dolphin or upon written request or by appointment in the Permits and Conservation Division, Office of Protected Resources, NMFS, 1315 East-West Highway, Room 13705, Silver Spring, MD 20910; phone (301) 427-8401; fax (301) 713-0376.

You may submit comments, identified by NOAA-NMFS-2020-0024, by any of the following methods:

• Electronic Submission: Submit electronic public comments via the Federal e-Rulemaking Portal www.regulations.gov. To submit comments via the e-Rulemaking Portal, enter NOAA-NMFS-2020-0024 in the keyword search. Locate the document you wish to comment on from the resulting list and click on the “Comment Now” icon on the right of that line.

• Mail: Comments on the application should be addressed to: Permits and Conservation Division, Office of Protected Resources, NMFS, 1315 East-West Highway, Room 13705, Silver Spring, MD 20910; ATTN: Jolie Harrison, Chief, Permits and Conservation Division.

• Fax: (301) 713-0376; ATTN: Jolie Harrison, Chief, Permits and Conservation Division, Office of Protected Resources.

Instructions: Comments must be submitted by one of the above methods. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word, Excel, or Adobe PDF file formats only.

Those individuals requesting a public hearing should submit a written request to the Chief, Permits and Conservation Division at the address listed above. The request should set forth the specific reasons why a hearing on this application would be appropriate.

FOR FURTHER INFORMATION CONTACT: Courtney Smith or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216).

SeaWorld, LLC. is proposing to import one stranded, non-releasable adult female Pacific white-sided dolphin from Vancouver Aquarium (845 Avison Way, Vancouver, British Columbia, Canada, V6G 3E2) to SeaWorld of Texas (10500 SeaWorld Drive, San Antonio, Texas, 78251) for public display purposes. The requested duration of the permit is three years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 6, 2020.
Amy Sloan,
Acting Chief, Permits and Conservation Division, Office of Protected Resources, National Marine Fisheries Service.

[FR Doc. 2020-05001 Filed 3-11-20; 8:45 am]

BILLING CODE 3510-22-P